DEPARTMENT OF HOMELAND SECURITY

Coast Guard

33 CFR Part 100

[Docket No. USCG-2015-0441]

Special Local Regulation; Annual Marine Events on the Colorado River, Between Davis Dam (Bullhead City, Arizona) and Headgate Dam (Parker, Arizona) Within the San Diego Captain of the Port Zone

AGENCY: Coast Guard, DHS.

ACTION: Notice of enforcement of regulation.

SUMMARY: The Coast Guard will enforce a marine event special local regulation on the navigable waters of the Colorado River between Davis Camp to Rotary Park in Bullhead City, AZ in support of the annual Bullhead City River Regatta on August 8, 2015, from 6 a.m. to 6 p.m. This action is necessary to provide for the safety of the participants, crew, spectators, safety vessels, and general users of the waterway. During the enforcement period, persons and vessels are prohibited from entering into, transiting through, or anchoring within this regulated area unless authorized by the Captain of the Port, or his designated representative.

DATES: The special local regulations listed in 33 CFR 100.1102, Table 1, Item 16, will be enforced from 6 a.m. to 6 p.m. on August 8, 2015.

FOR FURTHER INFORMATION CONTACT: If you have questions on this publication, call or email Petty Officer Nick Bateman, Waterways Management, U.S. Coast Guard Sector San Diego, CA; telephone (619) 278-7656, email D11-PF-MarineEventsSanDiego@uscg.mil.

SUPPLEMENTARY INFORMATION: The Coast Guard will enforce the marine event special local regulation for the annual Bullhead City River Regatta in 33 CFR 100.1102, Table 1, Item 16 on August 8, 2015, from 6 a.m. to 6 p.m.

Under the provisions of 33 CFR 100.1102, persons and vessels are prohibited from entering into, transiting through, or anchoring within this regulated area of the Colorado River unless authorized by the Captain of the Port, or his designated representative. The Coast Guard may be assisted by other Federal, State, or local law enforcement agencies in enforcing this regulation.

This document is issued under authority 33 CFR 100.1102 and 5 U.S.C. 552(a). In addition to this document in the Federal Register, the Coast Guard will provide the maritime community with advance notification of this enforcement period via the Local Notice to Mariners, Broadcast Notice to Mariners, and local advertising by the event sponsor.

If the Coast Guard determines that the regulated area need not be enforced for the full duration stated on this document, then a Broadcast Notice to Mariners or other communications coordinated with the event sponsor will grant general permission to enter the regulated area.

Dated: May 22, 2015.
J.S. Spaner,
Captain, U. S. Coast Guard, Captain of the Port San Diego.

[FR Doc. 2015-14086 Filed 6-8-15; 8:45 am]

BILLING CODE 9110-04-P